DEPARTMENT OF LABOR

Employment and Training Administration

United States Employment Service & America's Labor Market Information System; ET Handbook No. 406 (ETA 9002 Data Preparation Handbook), and Vets 200 Report and Specifications; Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, we are soliciting comments concerning the proposed revisions to the collection of the ETA 9002 and VETS 200 Reports in accordance with the ET Handbook 406 (ETA 9002 Data Preparation Handbook), and the VETS 200 Specifications, respectively. A copy of the proposed information collection request (ICR) can be obtained by contacting the office listed below in the addressee section of this notice.

DATES: Written comments must be submitted to the office listed in the addressee's section below on or before August 6, 2001.

ADDRESSES: Send comments to Gay Gilbert, Chief, Division of United States Employment Service & ALMIS, U.S. Department of Labor, Office of Career Transition Assistance, 200 Constitution Avenue, NW., Room C-4514, Washington, DC 20210, telephone: 202-693-3428 (this is not a toll-free number) facsimile: 202-693-2874 (this is not a toll-free number), e-mail: ggilbert@doleta.gov.

SUPPLEMENTARY INFORMATION:

I. Background:

The ET Handbook No. 406 (ETA 9002 Data Preparation Handbook) provides instructions for completing the ETA 9002 Reports. The ETA 9002 Reports collect information on the activities administered by the public labor exchange in each State and on the outcomes attributable to these activities. The VETS 200 Report and Specifications collect information on the labor exchange activities provided to veterans by Disabled Veterans' Outreach Program (DVOP) specialists and Local Veterans' Employment Representatives (LVER's) within the public labor exchange in each State. We are revising the ET Handbook No. 406 (ETA 9002 Data Preparation Handbook) and VETS 200 Report and Specifications to reflect current federal reporting requirements and to provide for the reporting of performance outcome information derived using the labor exchange performance measures.

In 2000, we initiated the development of a labor exchange performance measurement system which would consist of three elements: (1) labor exchange performance measures, (2) data collection and reporting procedures, and (3) procedures for establishing expected levels of performance. A Federal-State workgroup consisting of representatives from the Employment and Training Administration (ETA), fifteen State agencies, the National Association of State Workforce Agencies (NASWA), and the Veterans' Employment and Training Service (VETS) met three times during 2000 to develop the framework of a labor exchange performance measurement system.

On August 14, 2000, we published proposed labor exchange performance measures in the Federal Register (65 FR 49708, et seq.). Based on consideration of comments received, we have established four performance measures for the public labor exchange, as published in the Federal Register on May 31, 2001.

At the third of its meetings, the labor exchange performance measurement system workgroup recommended revisions to the reporting requirements for the public labor exchange. We have revised the ET Handbook No. 406 (ETA 9002 Data Preparation Handbook) to allow for the reporting of performance outcome information derived from the labor exchange performance measures, based on consideration of the workgroup's recommendations and to reflect current Federal reporting requirements.

Services provided by DVOPs and LVERs to veterans as part of the public labor exchange are reported on the VETS 200 Report—distinct from the ETA 9002 Reports. The VETS 200 Report and Specifications are revised to account for current Federal reporting requirements and to allow for reporting on services provided by DVOP and LVER staff. The VETS 200 Report and Specifications mirror and are compatible with those for the ETA 9002 Reports. Both the ET Handbook No. 406 and the VETS 200 Report and Specifications are available at www.workforcesecurity.doleta.gov/news/news.asp or by contacting the office listed in the addressee section of this notice.

Information is collected on the ETA 9002 and VETS 200 Reports under the following authority:

A. Wagner-Peyser Act sec. 3(a), 29 U.S.C. 49b(a)

The Secretary shall assist in coordinating the State public employment services throughout the country and in increasing their usefulness by developing and prescribing minimum standards of efficiency, assisting them in meeting problems peculiar to their localities, promoting uniformity in their administrative and statistical procedures, furnishing and publishing information as to opportunities for employment and other information of value in the operation of the system, and maintaining a system for clearing labor between the States.

B. Wagner-Peyser Act sec. 3(c)(2), 29 U.S.C. 49b(c)

The Secretary shall—

(2) assist in the development of continuous improvement models for such nationwide system that ensure private sector satisfaction with the system and meet the demands of job seekers relating to the system.

C. Wagner-Peyser Act sec. 7(b), 29 U.S.C. 49f(b)

Ten percent of the sums allotted to each State pursuant to section 49e of this title shall be reserved for use in accordance with this subsection by the Governor of each such State to provide—

(1) performance incentives for public employment service offices and programs, consistent with performance standards established by the Secretary, taking into account direct or indirect placements (including those resulting from self-directed job search or group job search activities assisted by such offices or programs), wages on entered employment, retention, and other appropriate factors.

D. Wagner-Peyser Act sec. 10(c), 29 U.S.C. 49i(c)

Each State receiving funds under this Act shall—

(1) make such reports concerning its operations and expenditures in such form and containing such information as shall be prescribed by the Secretary, and

(2) establish and maintain a management information system in accordance with guidelines established by the Secretary designed to facilitate the compilation and analysis of programmatic and financial data necessary for reporting, monitoring and evaluating purposes.

E. Wagner-Peyser Act sec. 13(a), 29 U.S.C. 49l(a)

The Secretary is authorized to establish performance standards for activities under this Act which shall take into account the differences in priorities reflected in State plans.

F. Wagner-Peyser Act sec. 15(e)(2)(I), 29 U.S.C. 49l-2(e)(2)(I)

(e) State responsibilities.—

(2) Duties.—In order to receive Federal financial assistance under this section, the State agency shall—

(I) utilize the quarterly records described in section 2871(f)(2) of this title to assist the State and other States in measuring State progress on State performance measures.

G. Provisional Guidance on the Implementation of the 1997 Standards for Federal Data on Race and Ethnicity, Executive Office of the President, Office of Management and Budget (66 FR 3829-3831); and “Revisions to the Standards for Maintaining, Collecting, and Presenting Federal Data on Race and Ethnicity, (62 FR 58781-58790).

II. Review Focus

The Department of Labor is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarify of the information to be collected; and

• minimize the burden of the collection of information on those who are to respond, including through the use of appropriate automated, electronic, mechanical, or other technological collection techniques or other forms of information technology, e.g., permitting electronic submissions of responses.

III. Current Actions

We have revised the elements of services and outcomes required to be reported by category of job seeker on the ETA 9002 to better reflect the services provided by the modern labor exchange and to meet current Federal data collection requirements. The revised ETA 9002 now provides for the reporting of employment outcomes of job seekers, including veterans, as well as the job seeker and employer customer satisfaction scores. Because employment outcome information is dependent on unemployment insurance (UI) wage record data, it will not be available at the same time as information on the number of job seekers who are registered job seekers or who receive labor exchange services. Therefore, outcome information for job seekers and veterans will be collected on separate reports from information on services. Also, data elements required to be reported about job openings employers list with the labor exchange are revised to be consistent with the Occupational Information Network—Standard Occupational Classification (O*NET-SOC) system and the North American Industry Classification System (NAICS). We are eliminating the VETS 300 and Manager's Report. No changes are being proposed for these items and VETS is handling these items separate.

Listed below is a description of the information that will be collected on each of the proposed ETA 9002 and VETS 200 reports:

ETA 9002 A: Services to Job Seekers.

ETA 9002 B: Services to Veterans.

ETA 9002 C: Performance Outcomes—Job Seekers.

ETA 9002 D: Performance Outcomes—Veterans.

ETA 9002 E: Job Openings Received by Occupation (O*NET-SOC) and Industry (NAICS).

VETS 200 A: DVOP Quarterly Report.

VETS 200 B: LVER Quarterly Report.

VETS 200 C: DVOP/LVER Quarterly Report.

The employment outcomes of registered job seekers will be derived by matching their Social Security Numbers with employment information contained in State databases, including the UI wage record database, the State Directory of New Hires (SDNH) database, or any other records the State agency may have access to that reliably indicate entry into employment. We anticipate that State agencies will have the option of using the wage record interchange system (WRIS) to obtain UI wage record information from other States as this system is implemented.

We propose to implement a rolling four-quarter reporting period for the labor exchange performance measurement system. For the job seeker and veterans reports, cohorts of registered job seekers are identified according to their quarter of registration or beginning of a new registration year. States submit information on the Services to Job Seekers (ETA 9002 A) and Services to Veterans (ETA 9002 B) reports forty-five days following the completion of each calendar quarter. The reports include information on the number of active job seekers and the services provided to them during the four quarter reporting period. Data on performance outcomes, to be reported on the Performance Outcomes: Job Seekers (ETA 9002 C) and Performance Outcomes: Veterans (ETA 9002 D) reports, often will not be available until several quarters after a job seeker has registered with the labor exchange. States report information on the ETA 9002 C and D reports forty-five days following the completion of the quarter in which outcome data become available for four consecutive cohorts of registered job seekers. As outcome data become available for different performance measures at different times, the cohorts of registered job seekers for which data are being reported are identified on the reports next to each performance measure. (Note: during transition to the new reporting system, it may be necessary to report less than four consecutive quarters of data until the system is fully implemented).

This system of reporting will provide program managers with the most current information available for program management, while also allowing for performance outcome information to be paired with information on services for purposes of evaluation, once complete information on a particular cohort becomes available. The rolling four quarter reporting period will provide program managers and other users of labor exchange information with the most current data available for a one-year period of time, during any quarter of the year. This system of reporting also will diminish the impact of seasonal variations in the reports on services or outcomes by always including each of the four calendar quarters in any particular reporting period. Once complete information for the four cohorts registering during a particular program year becomes available, final program year reports may then be assembled. This information will then be used to assess a State's success in meeting its performance goals.

ETA and VETS intend to begin transition to use of the proposed reporting procedures in the ET Handbook No. 406 (ETA 9002 Data Preparation Handbook) and VETS 200 Report and Specifications during PY 2001, with the reporting procedures in the proposed handbook being followed no later than July 1, 2002. State agencies will be encouraged to submit the ETA 9002 and VETS 200 reports electronically.

Type of Review: Revision

Agency: Employment and Training Administration.

Title: ETA 9002 and VETS 200.

OMB Number: 1205-0240.

Recordkeeping: 2 years.

Affected Public: State Government.

Total Respondents: 54 States and territories.

Cite/reference | Total respondents | Frequency | Total responses | Average minutes per response | Burden hours
ETA 9002A | 54 | Quarterly | 216 | 480 | 1728
ETA 9002B | 54 | Quarterly | 216 | 480 | 1728
ETA 9002C | 54 | Quarterly | 216 | 480 | 1728
ETA 9002D | 54 | Quarterly | 216 | 480 | 1728
ETA 9002E | 54 | Quarterly | 216 | 480 | 1728
VETS 200A | 53 | Quarterly | 212 | 480 | 1696
VETS 200B | 53 | Quarterly | 212 | 480 | 1696
VETS 200C | 53 | Quarterly | 212 | 480 | 1696
Totals |  |  | 1716 |  | 13728

Total Burden Cost (capital/startup): $20,000.

Total Burden Cost (operating/maintaining): $0.

Comments submitted in response to this comment request will be summarized and/or included in the request for Office of Management and Budget approval of the information collection request; they will also become a matter of public record.

Dated: May 25, 2001.
Grace A. Kilbane,
Administrator, Office of Workforce Security.

[FR Doc. 01-14189 Filed 6-5-01; 8:45 am]

BILLING CODE 4510-30-P